DEPARTMENT OF ENERGY

Federal Energy Regulatory Commission

[Docket No. CP01-180-000]

Cypress Natural Gas Company, L.L.C.; Notice of Intent To Prepare an Environmental Impact Statement for the Proposed Cypress Pipeline Project, Request for Comments on Environmental Issues, and Notice of Public Scoping Meetings and Site Visit

June 1, 2001.

The staff of the Federal Energy Regulatory Commission (FERC or Commission) will prepare an environmental impact statement (EIS) that will discuss the environmental impacts of the Cypress Pipeline Project involving construction and operation of facilities by Cypress Natural Gas Company, L.L.C. (Cypress) in Chatham, Bryan, Liberty, Long, McIntosh, Glynn, Camden, and Charlton Counties, Georgia and Nassau, Duval, and Clay Counties, Florida.¹ These facilities would consist of about 166 miles of 24-inch-diameter pipeline and 13,000 horsepower (hp) of compression. This EIS will be used by the Commission in its decision-making process to determine whether the project is in the public convenience and necessity.

¹ Cypress' application was filed with the Commission under section 7 of the Natural Gas Act and Part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” should have been attached to the project notice Cypress provided to landowners. This fact sheet addresses a number of typically asked questions, including the use of eminent domain and how to participate in the Commission's proceedings. It is available for viewing on the FERC Internet website (www.ferc.gov).

This notice is being sent to Federal, state, and local government agencies; affected landowners; elected officials; environmental and public interest groups; Indian tribes that might attach religious and cultural significance to historic properties in the area of potential effect; local libraries and newspapers; and the Commission's list of parties to the proceeding. State and local government representatives are encouraged to notify their constituents of this proposed action and encourage them to comment on their areas of concern.

Additionally, with this notice we ² are asking other Federal, state, local and tribal agencies with jurisdiction and/or special expertise with respect to environmental issues to cooperate with us in the preparation of the EIS. These agencies may choose to participate once they have evaluated Cypress' proposal relative to their responsibilities. Agencies who would like to request cooperating status should follow the instructions for filing comments described later in this notice.

² “We,” “us,” and “our” refer to the environmental staff of the Office of Energy Projects (OEP).

Summary of the Proposed Project

Cypress proposes to construct and operate new pipeline facilities to provide approximately 310 million cubic feet per day of natural gas capacity to the project area in southeastern Georgia and northern Florida. Cypress seeks authority to construct and operate:

• About 166 miles of 24-inch-diameter natural gas pipeline in Chatham, Bryan, Liberty, Long, McIntosh, Glynn, Camden, and Charlton Counties, Georgia, and Nassau, Duval, and Clay Counties, Florida;

• 13,000 hp of electric-drive compression at the new Waynesville Compressor Station in Glynn County, Georgia;

• Five new meter stations, including:

—Port Wentworth Meter Station in Chatham County, Georgia;

—Atlanta Gas Light Meter Station in Glynn County, Georgia;

—South Georgia Natural Gas Meter Station in Nassau County, Florida;

—Brandy Branch Power Plant Meter Station in Duval County, Florida; and

—Florida Gas Transmission Meter Station in Clay County, Florida;

• A pig launcher facility at the Port Wentworth Meter Station, a pig launcher and pig receiver facility at the Waynesville Compressor Station, and a pig receiver facility at the Florida Gas Transmission Meter Station; and

• 14 mainline valves.

The location of the project facilities is shown in appendix 1.³

³ The appendices referenced in this notice are not being printed in the Federal Register. Copies are available on the Commission's website at the “RIMS” link or from the Commission's Public Reference and Files Maintenance Branch, 888 First Street, N.E., Washington, DC 20426, or call (202) 208-1371. For instructions on connecting to RIMS refer to the last page of this notice. Copies of the appendices were sent to all those receiving this notice in the mail.

Land Requirements for Construction

Construction of the proposed facilities would require about 2,153.5 acres of land. Following construction, about 730.8 acres would be maintained as permanent right-of-way and new aboveground facility sites. The remaining 1,422.7 acres of temporary workplace would be restored and allowed to revert to its former use.

The nominal construction right-of-way for the pipeline would be 95 feet wide, with 50 feet retained as permanent right-of-way. About 92 percent of the pipeline route would parallel existing transportation or energy rights-of-way.

The Waynesville Compressor Station, pig launcher and receiver facilities, and a mainline valve would be constructed within a 36-acre site that Cypress intends to acquire. One acre of land would be required for each of the five meters stations. Pig launcher and receiver facilities and mainline valves to be constructed at the Port Wentworth and Florida Gas Transmissions Meter Stations would be located within the respective 1-acre meter station sites and would not require additional land. The remaining mainline valves would be installed at required intervals along the route within the permanent right-of-way.

The EIS Process

The National Environmental Policy Act (NEPA) requires the Commission to take into account the environmental impacts that could result from an action whenever it considers the issuance of a Certificate of Public Convenience and Necessity. NEPA also requires us to solicit and address concerns the public may have about proposals. We call this “scoping.” The main goal of the scoping process is to focus the analysis in the EIS on the important environmental issues. By this Notice of Intent, the Commission requests public comments on the scope of the issues it will address in the EIS. All comments received are considered during the preparation of the EIS.

Our independent analysis of the issues will be in the Draft EIS, which will be mailed to Federal, state, and local agencies; public interest groups; interested individuals; affected landowners; newspapers; libraries; and the Commission's official service list for this proceeding. A 45-day comment period will be allotted for review of the Draft EIS. We will consider all comments on the Draft EIS and revise the document, as necessary, before issuing the Final EIS. The Final EIS will include our response to all comments received.

To ensure your comments are considered, please carefully follow the instructions in the public participation section beginning on page 6.

Currently Identified Environmental Issues

The EIS will discuss impacts that could occur as a result of the construction and operation of the proposed project. We have already identified several issues that we think deserve attention based on a preliminary review of the proposed facilities and the environmental information provided by Cypress. This preliminary list of issues may be changed based on your comments and our analysis.

• Geology and Soils

—Assessment of potential geological hazards, including sinkholes.

—Potential impact on mineral resources and mining operations.

—Effect on hydric soils and soils with high potential for compaction.

• Water Resources and Wetlands

—Effect on groundwater resources.

—Potential effect on 53 perennial streams, 38 intermittent streams, and 3 ponds crossed by or close to the route.

—Effects on waterbodies designated under Federal or state programs, including the Altamaha, Satilla, and St. Marys Rivers.

—Effects on approximately 627 acres of wetlands.

• Vegetation and Wildlife

—Effect on vegetation, wildlife, and fisheries resources, including planted pine and forested habitats.

—Effect on the Ralph E. Simmons Memorial State Forest.

—Vegetative Nuisance species.

• Endangered and Threatened Species

—Potential effect on 18 federally listed species (all of which are also state-listed species), including the red-cockaded woodpecker, eastern indigo snake, flatwoods salamander, shortnose sturgeon, and Florida scrub jay.

—Potential effect on an additional 65 state-listed species.

• Cultural Resources

—Effect on historic and prehistoric sites.

—Native American and tribal concerns.

• Land Use

—Impact on residential areas.

—Effect on existing and future land use along the proposed right-of-way, including forested wetlands and pine plantations.

—Effect on recreation and public interest areas, including the Fort Stewart Military Reservation, Sansavilla Wildlife Management Area, Paulk's Pasture Wildlife Management Area, Ralph E. Simmons State Forest, the Savannah-Ogeechee Canal, and the Jacksonville-Baldwin Rail Trail.

—Visual effect of the aboveground facilities on surrounding areas.

• Socioeconomics

—Effects of construction workforce demands on public services and temporary housing.

• Air Quality and Noise

—Potential impact of pipeline construction on local air quality and noise environment.

—Effects on local noise environment from construction and operation of the Waynesville Compressor Station.

• Reliability and Safety

—Assessment of public safety factors associated with natural gas facilities.

• Alternatives

—Assessment of alternative routes, systems, or energy sources to reduce or avoid environmental impacts.

—Route alternatives or potential deviations to minimize land use development concerns in the Chatham County, Georgia area.

• Cumulative Impacts

—Assessment of the effect of the proposed project when combined with other projects that have been or may be proposed in the same region and similar time frame.

We have made a preliminary determination that no nonjurisdictional facilities are associated with the proposed project.

Public Participation

You can make a difference by providing us with your specific comments or concerns about the project. By becoming a commentor, your concerns will be addressed in the EIS and considered by the Commission. You should focus on the potential environmental effects of the proposal, alternatives to the proposal (including alternative routes), and measures to avoid or lessen environmental impact. The more specific your comments, the more useful they will be. Please carefully follow these instructions to ensure that your comments are received in time and properly recorded:

• Send an original and two copies of your letter to: David P. Boergers, Secretary, Federal Energy Regulatory Commission, 888 First St., N.E., Room 1A, Washington, DC 20426.

• Label one copy of the comments for the attention of Gas Group 1, PJ-11.1.

• Reference Docket No. CP01-180-000.

• Mail your comments so that they will be received in Washington, DC on or before July 9, 2001.

Comments, protests and interventions may be filed electronically via the internet in lieu of paper. See, 18 CFR 385.2001(a)(1)(iii) and the instructions on the Commission's web site at http://www.ferc.fed.us/efi/doorbell.htm. Before you can file comments you will need to create an account by clicking on “Login to File” and then “New User Account.”

If you do not want to send comments at this time but still want to remain on our mailing list, please return the Information Request (appendix 3). If you do not return the Information Request, you will be taken off the mailing list.

Public Scoping Meetings and Site Visit

In addition to or in lieu of sending written comments, we invite you to attend the public scoping meetings that the FERC will conduct in the project area. The locations and times for these meetings are listed below.

• Tuesday, June 26, 2001, 7:00 p.m.—Quality Inn and Suites, 17 Gateway Boulevard East, Savannah, Georgia 31419, (912) 925-2700.

• Wednesday, June 27, 2001, 7:00 p.m.—Embassy Suites, 500 Mall Boulevard, Glynn Place Mall, Brunswick, Georgia 31525, (912) 264-6100.

• Thursday, June 28, 2001, 7:00 p.m.—Clarion Hotel Airport, Conference Center, 2101 Dixie Clipper Drive, Jacksonville, Florida 32218, (904) 741-1997.

The public scoping meetings are designed to provide you with more detailed information and another opportunity to offer your comments on the proposed project Cypress representatives will be present at the scoping meetings to describe their proposal. Interested groups and individuals are encouraged to attend the meetings and to present comments on the environmental issues they believe should be addressed in the EIS. A transcript of each meeting will be made so that your comments will be accurately recorded.

On June 26 through 28, 2001 we will also be conducting a site visit to the project area. This will be an on-the-ground inspection, conducted by automobile on public roads, or where access to private property has been granted (specific locations to be determined later). Anyone interested in participating in the site visit may contact the Commission's Office of External Affairs identified at the end of this notice for more details and must provide their own transportation.

Becoming an Intervenor

In addition to involvement in the EIS scoping process, you may want to become an official party to the proceeding known as an “intervenor.” Intervenors play a more formal in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding that would not be adequately represented by any other parties. You do not need intervenor status to have your environmental comments considered.

Availability of Additional Information

Additional information about the proposed project is available from the Commission's Office of External Affairs at (202) 208-1088 or on the FERC website (www.ferc.gov) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

David P. Boergers,
Secretary.

[FR Doc. 01-14339 Filed 6-6-01; 8:45 am]

BILLING CODE 6717-01-M